DEPARTMENT OF COMMERCE

National Oceanic and Atmospheric Administration

50 CFR Part 635

[Docket No. 030604143-3143-01; I.D. 030403C]

RIN 0648-AQ90

Atlantic Highly Migratory Species; Atlantic Swordfish Quotas

AGENCY: National Marine Fisheries Service (NMFS), National Oceanic and Atmospheric Administration (NOAA), Department of Commerce.

ACTION: Proposed rule.

SUMMARY: NMFS proposes to amend the regulations governing the North and South Atlantic swordfish fisheries to implement recommendations adopted at the 2002 meeting of the International Commission for the Conservation of Atlantic Tunas (ICCAT). Specifically, NMFS proposes increasing the North Atlantic swordfish quota to 3,877 metric tons (mt) whole weight (ww) in 2003 and to 3,907 mt ww in 2004 and 2005. Additionally, NMFS proposes establishing a dead discard allowance of 80 mt ww for 2003; transferring 25 mt ww of North Atlantic swordfish quota to Canada in 2003, 2004, and 2005; and allowing up to 200 mt ww of North Atlantic swordfish to be caught between 5° North latitude and 5o South latitude. Finally, NMFS proposes establishing a South Atlantic swordfish quota of 100 mt ww in 2003, 2004, and 2005 and 120 mt ww in 2006. Public hearings on this proposed rule will be announced in a separate Federal Register document.

DATES: Written comments on the proposed rule must be received by 5 p.m. on August 4, 2003.

ADDRESSES: Comments should be sent to, and copies of the Draft Environmental Assessment/Regulatory Impact Review/Initial Regulatory Flexibility Analysis (EA/RIR/IRFA) may be obtained from Christopher Rogers, Chief, Highly Migratory Species Management Division F/SF1, 1315 East-West Highway, Silver Spring, MD 20910. These documents are also available from the Highly Migratory Species Management Division website at www.nmfs.noaa.gov/sfa/hmspg.html. Comments also may be sent via facsimile (fax) to 301-713-1917. Comments will not be accepted if submitted via e-mail or on the Internet.

FOR FURTHER INFORMATION CONTACT: Tyson Kade, by phone: 301-713-2347; by fax: 301-713-1917; or by email: Tyson.Kade@noaa.gov.

SUPPLEMENTARY INFORMATION: The U.S. Atlantic swordfish fishery and the tuna fisheries are managed under the Fishery Management Plan for Atlantic Tunas, Swordfish, and Sharks (HMS FMP) and regulations at 50 CFR part 635 under the authority of the Magnuson-Stevens Fishery Conservation and Management Act (Magnuson-Stevens Act), 16 U.S.C. 1801 et seq. and the Atlantic Tunas Convention Act (ATCA), 16 U.S.C. 971 et seq. Regulations issued under the authority of ATCA carry out the recommendations of ICCAT.

North Atlantic Swordfish Quota

Prior to the 2002 meeting, ICCAT conducted a stock assessment examining North Atlantic swordfish. The Standing Committee on Research and Statistics (SCRS) concluded that the assessment indicated that the stock could support an increase in the total allowable catch (TAC) of North Atlantic swordfish. According to the stock assessment, the biomass at the start of 2002 was estimated to be 94 percent of the biomass needed to produce maximum sustainable yield (MSY). The SCRS felt that there was a greater that 50-percent chance that a TAC of 14,000 mt ww would allow the stock to rebuild to MSY by the end of 2009. Based on this information, ICCAT set a TAC of 14,000 mt ww for 2003, 2004, and 2005, which is an increase from 10,400 mt ww in 2002. Of the 14,000 mt ww, the United States is allowed to catch 3,877 mt ww (2,915 mt dw) in 2003 and 3,907 mt ww (2,938 mt dw) in 2004 and 2005. The ICCAT recommendation also states that 200 mt ww (150 mt dw) of the U.S. catch limit may be harvested from an area between 5° North latitude and 5o South latitude.

In addition to adjusting the quota, ICCAT recommended that a dead discard allowance be established by deducting 100 mt ww from the 2003 North Atlantic swordfish TAC. The United States is allocated 80 percent or 80 mt ww (60 mt dw) of this allowance in addition to the country specific quota allocation. If the amount of the dead discards exceeds the allowance, the excess must be deducted from the quota the following year. The ICCAT recommendation says that the dead discard allowance will be phased out by 2004.

ICCAT also recommended that the United States transfer 25 mt ww (18.8 mt dw) of North Atlantic swordfish quota to Canada in 2003, 2004, and 2005. The transfer of these fish would not change the relative allocation share that each country has been given. NMFS is proposing to use the 185 mt ww (139.1 mt dw) remaining in the reserve category following the transfer of quota to Japan in 2002, as described in 67 FR 70023, November 20, 2002, to implement the quota transfer to Canada.

South Atlantic Swordfish Quota

The SCRS conducted a stock assessment of South Atlantic swordfish in 2002. Due to discrepancies between several of the datasets, reliable stock assessment results could not be produced. However, the SCRS noted that the total reported catches have decreased since 1995. ICCAT set a South Atlantic swordfish TAC of 15,631 mt ww in 2003, 15,776 mt ww in 2004, 15,956 mt ww in 2005, and 16,055 mt ww in 2006. Of these amounts, the United States is allocated 100 mt ww (75.2 mt dw) in 2003, 2004, and 2005 and 120 mt ww (90.2 mt dw) in 2006. The ICCAT recommendation allows for the U.S. underharvest from the South Atlantic quota in 2000 to be carried over to 2003 in addition to the 100-mt ww (75.2 mt dw) quota. This proposed rule would adjust the United States annual quota level for South Atlantic swordfish.

Request for Comments

In addition to comments on the provisions of the proposed rule, NMFS is requesting comments (see ADDRESSES) on the swordfish quota allocation methodology and the incidental catch limits. Specifically, NMFS would like to receive comments regarding the need for a recreational swordfish category to reflect the increase in effort in the recreational swordfish fishery. Currently, the swordfish fishery is managed via directed, incidental, and reserve categories. Also, NMFS is soliciting comments concerning how the North Atlantic swordfish quota could be allocated among the user groups, how the reserve quota category could be utilized, and if and how the trip limits for incidental permit holders should be modified. These measures are not being proposed at this time. Based on comments received, NMFS will take further action as warranted.

Public Hearings and Special Accommodations

NMFS will hold public hearings to receive comments from fishery participants and other members of the public regarding these proposed amendments. These hearings will be physically accessible to people with disabilities. Requests for sign language interpretation or other auxiliary aids should be directed to Tyson Kade at (301) 713-2347 at least 5 days prior to the hearing date. For individuals unable to attend a hearing, NMFS also solicits written comments on the proposed rule (see DATES and ADDRESSES).

Classification

This proposed rule is published under the authority of the Magnuson-Stevens Act and ATCA. The Assistant Administrator for Fisheries, NOAA, has preliminarily determined that the regulations contained in this rule are necessary to implement the recommendations of ICCAT and to manage the domestic Atlantic highly migratory species fisheries.

This proposed rule has been determined to be not significant for purposes of Executive Order 12866.

On September 7, 2000, NMFS reinitiated formal consultation for all HMS commercial fisheries under section 7 of the Endangered Species Act. A Biological Opinion (BiOp) for HMS fisheries, including pelagic longline, bottom longline, and drift gillnet, was issued on June 14, 2001, which found that the continued operation of the HMS pelagic longline fishery jeopardizes the continued existence of loggerhead and leatherback sea turtles, but provided a reasonable and prudent alternative under which fishing activity could continue. On July 9, 2002, NMFS promulgated a final rule (67 FR 45393) that implemented the measures required by the BiOp for the pelagic and bottom longline and shark gillnet fisheries. The measures in the July 2002 final rule were necessary to alleviate the jeopardy situation for HMS fisheries. In examining the potential impact of the proposed regulations, NMFS feels that the only measure that could adversely affect stocks of protected species is the increase in the North Atlantic swordfish quota from 2,951 mt ww to 3,877 mt ww and then to 3,907 mt ww in the upcoming fishing years. The increase in available quota could trigger an increase in fishing effort which could then increase the incidental catch of protected species. Currently, NMFS believes that the likelihood of an increase in the incidental take of protected species by the pelagic longline fleet due to an increase in effort is unlikely. For the past several years, the level of effort in the pelagic longline fishery has been steadily declining and a number of restrictions such as limited access and time and area closures have been placed on the pelagic longline fleet. This declining effort has led to underharvests of the 2,951 mt ww swordfish quota (1,025.4 mt ww in the 2001 fishing year). Because the proposed rule does not relieve any of these restrictions, NMFS believes that the level of effort in the fleet is unlikely to increase despite the change in quota level. Thus, NMFS feels that the current level of incidental takes of protected species will remain at current levels or decrease.

NMFS has determined preliminarily that these regulations would be implemented in a manner consistent to the maximum extent practicable with the enforceable policies of those coastal states in the Atlantic, Gulf of Mexico, and Caribbean that have approved coastal zone management programs. Letters have been sent to the relevant states asking for their concurrence.

NMFS has prepared a regulatory impact review and an initial regulatory flexibility analysis that examine the impacts of the selected alternatives discussed previously in this rulemaking. The purpose of this action is to implement the 2002 ICCAT recommendations regarding North and South Atlantic swordfish consistent with the HMS FMP, the Magnuson-Stevens Act, and other domestic regulations. The commercial swordfish fishery is composed of fishermen who hold a swordfish directed, incidental, or handgear permit and the related industries including processors, bait houses, and equipment suppliers, all of which NMFS considers to be small entities. In October 2002, there were approximately 205 fishermen with a directed swordfish limited access permit, 110 fishermen with an incidental swordfish limited access permit, and 94 fishermen with a handgear limited access permit for swordfish. In recent years, the number of active permit holders who have caught swordfish has decreased from over 200 to approximately 180 and the number of hooks has decreased from over 10 million to under 8 million.

For each of the 2002 ICCAT recommendations, two alternatives were considered: a preferred alternative to implement the ICCAT recommendation and a no action alternative that would not implement the recommendation. Under ATCA, the United States is obligated to implement ICCAT-approved recommendations. The preferred alternative to increase the quota for the North Atlantic swordfish fishery is unlikely to have any impact on the amount of fish that can be harvested by U.S. swordfish fishermen. In recent years, the quota has not been fully harvested. In the 2001 fishing year, there was a 1,025.4-mt ww (771 mt dw) underharvest. If the increase in quota was fully harvested, it would have a value of a little over $5.7 million. However, based on the declining level of effort both in number of vessels and number of hooks fished in the fishery, and based on the fact that U.S. fishermen have not been harvesting the existing quota in recent years, NMFS believes it is unlikely that a quota increase would significantly affect the economic situation in this fishery.

Similarly, the preferred alternative to transfer the 25 mt ww of swordfish quota to Canada is not expected to have an impact on U.S. fishermen considering the amounts of recent quota underages, the impacts of recent management actions, and the recent levels of effort present in this fishery. The 25 mt ww of swordfish would have a value of about $155,000 if it was caught by U.S. fishermen; however, the quota has no value to fishermen until the swordfish are landed and sold. As previously mentioned, it is unlikely given the current level of effort that the amount to be transferred will be caught now or in the near future by U.S. fishermen. Thus, the current economic impact of transferring 25 mt ww is negligible.

The other preferred alternatives in this proposed rule: implementing a dead discard allowance for 2003, modifying the North Atlantic swordfish harvest area, and setting the South Atlantic swordfish quota should have no significant impacts on U.S. fishermen. The 2003 dead discard allowance could create a small economic benefit, approximately $500,000, by preserving some of the directed category quota by allowing 80 mt ww (60 mt dw) of dead discards to be counted against the North Atlantic TAC instead of the United States quota. Setting the South Atlantic swordfish quota at 100 mt ww (75 mt dw) could have negative economic impacts, approximately $1.76 million, if it limits the effort by U.S. vessels in that fishing area. The modified North Atlantic fishing area could alleviate impacts by allowing up to 200 mt ww (150 mt dw) of South Atlantic swordfish to be applied to the North Atlantic swordfish quota, a potential increase in revenue of approximately $1.24 million. However, U.S. fishermen have been underharvesting the quota in recent years so NMFS believes that these economic impacts are unlikely to occur.

The only other alternatives considered were no action alternatives for each of the aforementioned preferred alternatives; i.e. not implementing the North Atlantic swordfish quota increase, the 25 mt ww quota transfer, the South Atlantic swordfish quota decrease, the harvest area adjustment, and the 80 mt ww 2003 dead discard allowance. The no action alternatives are not preferred because they are not consistent with the purpose of this action. Selecting the no action alternative regarding the North Atlantic swordfish quota would have no immediate economic impact as U.S. fishermen have not been catching the full quota in recent years. By maintaining the U.S. quota at current levels, the United States would stand a good chance of losing the allocation increase in the future which would prevent any increase in economic benefits. Maintaining the South Atlantic swordfish quota at its current level would not have significant impacts as U.S fishermen have not been catching the quota in recent years. However, if effort increased in the near future, there would be the potential for ecological impacts. Not extending the dead discard allowance for 2003 would not be expected to have significant impacts as the U.S. has not been catching the full North Atlantic swordfish quota in recent years. Maintaining the current harvesting area of North Atlantic swordfish could have positive ecological impacts by limiting the total catch but it could have negative economic impacts in conjunction with the preferred alternative that would reduce the South Atlantic swordfish quota. Not transferring 25 mt ww of North Atlantic swordfish quota to Canada is not expected to have a significant impact on U.S. fishermen due to recent underharvests in the fishery.

None of the proposed alternatives in this document would result in additional reporting, record-keeping, compliance or monitoring requirements for the public. Establishing a dead discard allowance for 2003 and allowing up to 200 mt ww (150 mt dw) of South Atlantic swordfish to be applied to the North Atlantic swordfish quota involves additional monitoring on the part of NMFS. NMFS will use logbook submissions (OMB control number 0648-0371) to monitor the amount of quota harvested and notify the participants in the fishery when the quota is almost reached. NMFS does not believe that the proposed alternatives would conflict with or duplicate any relevant regulations, federal or otherwise.

List of Subjects in 50 CFR Part 635

Fisheries, Fishing, Management, Reporting and recordkeeping requirements, Treaties.

Dated: June 16, 2003.
Rebecca J. Lent,
Deputy Assistant Administrator for Regulatory Programs, National Marine Fisheries Service.

For the reasons set out in the preamble, 50 CFR part 635 is proposed to be amended as follows:

PART 635—ATLANTIC HIGHLY MIGRATORY SPECIES

1. The authority citation for part 635 continues to read as follows:

Authority: 16 U.S.C. 971 et seq.; 16 U.S.C. 1801 et seq.

2. In § 635.27, paragraph (c)(1) is revised to read as follows:

§ 635.27 Quotas.

* * * * *

(c) Swordfish. (1) Categories. Consistent with ICCAT recommendations, the fishing year's total amount of swordfish that may be caught, retained, possessed, or landed by persons and vessels subject to U.S. jurisdiction is divided into quotas for the North Atlantic swordfish stock and the South Atlantic swordfish stock. The quota for the North Atlantic swordfish stock is further divided into equal semi-annual directed fishery quotas, an annual incidental catch quota for fishermen targeting other species or taking swordfish recreationally, and a reserve category. In addition, a dead discard allowance is established for the North Atlantic swordfish stock.

(i) North Atlantic swordfish. (A) A swordfish from the North Atlantic swordfish stock caught prior to the directed fishery closure by a vessel for which a directed fishery permit or a handgear permit for swordfish has been issued is counted against the directed fishery quota. For the fishing year beginning June 1, 2003, the annual directed fishery quota for the North Atlantic swordfish stock is 2,615 mt dw. This annual directed fishery quota is subdivided into two equal semiannual quotas of 1,307.5 mt dw, one for June 1 through November 30, and the other for December 1 through May 31 of the following year. Beginning June 1, 2004, the annual directed fishery quota is 2,638 mt dw, which is subdivided into two equal semiannual quotas of 1,319 mt dw, one for June 1 through November 30, and the other for December 1 through May 31 of the following year.

(B) A swordfish from the North Atlantic swordfish stock landed by a vessel for which an incidental catch permit for swordfish or an HMS angling permit has been issued, or caught after the effective date of a closure of the directed fishery from a vessel for which a directed fishery permit or a handgear permit for swordfish has been issued, is counted against the incidental catch quota. The annual incidental catch quota for the North Atlantic swordfish stock is 300 mt dw.

(C) The dead discard allowance for the North Atlantic swordfish stock is: 60 mt dw for the fishing year beginning June 1, 2003. All swordfish discarded dead from U.S. fishing vessels, regardless of whether such vessels are permitted under this part, shall be counted against the allowance and considered in making adjustments to the following year's quota. In the fishing year beginning June 1, 2004, and all subsequent fishing years, all swordfish discarded dead from U.S. fishing vessels shall be counted against the directed fishery quota.

(D) A portion of the total allowable catch of North Atlantic swordfish shall be held in reserve for inseason adjustments to fishing categories, to compensate for projected or actual overharvest in any category, for fishery independent research, or for other purposes consistent with management objectives.

(E) Up to 150 mt dw of swordfish landed from between 5 degrees North and 5 degrees south latitude may be applied against the North Atlantic swordfish quota. Otherwise, swordfish landed from this area shall be applied against the South Atlantic swordfish quota.

(ii) South Atlantic swordfish. From June 1, 2003, to May 31, 2006, the annual directed fishery quota for the South Atlantic swordfish stock is 75 mt dw. Beginning June 1, 2006, the annual directed fishery quota for the South Atlantic swordfish stock is 90 mt dw. The entire quota for the South Atlantic swordfish stock is reserved for vessels with pelagic longline gear onboard and for which a directed fishery permit for swordfish has been issued; retention of swordfish caught incidental to other fishing activities or with other fishing gear is prohibited in the Atlantic Ocean south of 5° N. lat.

* * * * *

[FR Doc. 03-15690 Filed 6-19-03; 8:45 am]

BILLING CODE 3510-22-S